DEPARTMENT OF ENERGY

Federal Energy Regulatory Commission

[Docket No. CP01-89-000]

Northern Natural Gas Company; Notice of Application

February 22, 2001.

Take notice that on February 14, 2001, Northern Natural Gas Company (Northern), 1111 South 103rd Street, Omaha, Nebraska 68124, filed in Docket No. CP01-89-000, an application, pursuant to Section 7(b) of the Natural Gas Act (NGA), as amended, and Sections 157.7 and 157.18 of the Federal Energy Regulatory Commission's Regulations (18 CFR 157.7 and 157.18), requesting permission and approval to abandon, by sale to Western Gas Resources—Texas, Inc. (WGR), certain compression, pipeline, and delivery and receipt point facilities, with appurtenances, located in the state of Texas and certain services rendered thereby, all as more fully set forth in the application which is on file with the Commission and open to public inspection. This filing may be viewed on the web at http://www.ferc.fed.us/online/rims.htm. (Call 202-208-2222 for assistance.)

Northern proposes to convey to WGR facilities located in the Permian Area of West Texas which consist of approximately 83 miles of 8-inch and 16-inch pipeline, a compressor station consisting of seven (7) units, treating and dehydration facilities designed to remove H2S, CO2, and water from the natural gas stream, all delivery and receipt points located along the length of the pipelines, and all other appurtenant facilities.

Northern states that it proposes to convey the subject facilities to WGR in accordance with the provisions of the Purchase and Sales Agreement dated October 20, 2000.

Northern states that these facilities are located on the extreme south end of Northern's Field Area in the Permian Basin of West Texas. Northern has indicated that the abandonment and accompanying transfer will be beneficial since these gas supply facilities are no longer needed for Northern to transport or treat gas for its merchant service obligations. As such, Northern states that WGR will be assuming all future service obligations and operational and economic responsibilities for the subject facilities and will provide service to all customers. Northern states that its customers will benefit from the abandonment and accompanying transfer since the operating and maintenance costs from these facilities will no longer be incurred and Northern will be able to optimize its system operations.

Any questions regarding this application should be directed to Keith L. Peterson, Director, Certificates and Reporting at (402) 398-7421, Northern Natural Gas Company, 1111 South 103rd Street, Omaha, Nebraska 68124.

Any person desiring to be heard or to make any protest with reference to said application should on or before March 15, 2001, file with the Federal Energy Regulatory Commission, 888 First Street, NE, Washington, DC 20426, a motion to intervene or protest in accordance with the requirements of the Commission's Rules of Practice and Procedure (18 CFR 385.211 and 385.214) and the regulations under the Natural Gas Act (18 CFR 157.10). All protests filed with the Commission will be considered by it in determining the appropriate action to be taken but will not serve to make the protestants parties to the proceeding. Any person wishing to become a party to any proceeding must file a motion to intervene in accordance with the Commission's rules. Beginning November 1, 2000, comments and protests may be filed electronically via the internet in lieu of paper. See 18 CFR 385.2001(a)(1)(iii) and the Commission's website at http://www.ferc.fed.us/efi/doorbell.htm.

A person obtaining intervenor status will be placed on the service list maintained by the Secretary of the Commission and will receive copies of all documents issued by the Commission, filed by the applicant, or filed by all other intervenors. An intervenor can file for rehearing of any Commission order and can petition for court review of any such order. However, an intervenor must serve copies of comments or any other filing it makes with the Commission to every other intervenor in the proceeding, as well as filing an original and 14 copies with the Commission.

A person does not have to intervene, however, in order to have comments considered, a person, instead, may submit two copies of such comments to the Secretary of the Commission. Commenters will be placed on the Commission's environmental mailing list, will receive copies of environmental documents, and will be able to participate in meetings associated with the Commission's environmental review process. Commenters will not be required to serve copies of filed documents on all other parties. However, Commenters will not receive copies of all documents filed by other parties or issued by the Commission, and will not have the right to seek rehearing or appeal the Commission's final order to a Federal court.

The Commission will consider all comments and concerns equally, whether filed by Commenters or those requesting intervenor status. Take further notice that, pursuant to the authority contained in and subject to the jurisdiction conferred upon the Commission by Sections 7 and 15 of the Natural Gas Act and the Commission's Rules of Practice and Procedure, a hearing will be held without further notice before the Commission or its designee on this application if no motion to intervene in filed within the time required herein, if the Commission on its own review of the matter finds that a grant of the certificate authority is required by the public convenience and necessity. If a motion for leave to intervene is timely filed, or if the Commission on its own motion believes that a formal hearing is required, further notice of such hearing will be duly given. Under the procedure herein provided for, unless otherwise advised, it will be unnecessary for Northern to appear or be represented at the hearing.

Linwood A. Watson, Jr.,
Acting Secretary.

[FR Doc. 01-4814 Filed 2-27-01; 8:45 am]

BILLING CODE 6717-01-M